DEPARTMENT OF COMMERCE

International Trade Administration

[A-533-875]

Fine Denier Polyester Staple Fiber From India: Preliminary Results of Antidumping Duty Administrative Review; 2018-2019

AGENCY: Enforcement and Compliance, International Trade Administration, Department of Commerce.

SUMMARY: The Department of Commerce (Commerce) preliminarily assigned Reliance Industries Limited (RIL), the sole respondent subject to this antidumping duty (AD) administrative review, an AD margin based upon the application of total adverse facts available (AFA). We invite interested parties to comment on these preliminary results.

DATES: Applicable November 23, 2020.

FOR FURTHER INFORMATION CONTACT: Paola Aleman Ordaz, AD/CVD Operations, Office IV, Enforcement and Compliance, International Trade Administration, U.S. Department of Commerce, 1401 Constitution Avenue NW, Washington, DC 20230; telephone: (202) 482-4031.

SUPPLEMENTARY INFORMATION:

Background

On September 9, 2019, Commerce published a notice initiating an AD administrative review of fine denier polyester staple fiber (fine denier PSF) from India covering Reliance Industries Limited (RIL) for the period of review January 5, 2018 through June 30, 2019.¹ During the course of this administrative review, Commerce issued, and RIL submitted responses to, a questionnaire and multiple supplemental questionnaires. The petitioners ² filed multiple comments on RIL's responses. For further details, see the Preliminary Decision Memorandum.³

¹ See Initiation of Antidumping and Countervailing Duty Administrative Reviews, 84 FR 47242 (September 9, 2019).

² The petitioners are DAK Americas LLC, Nan Ya Plastics Corporation, America, and Auriga Polymers Inc. (the petitioners).

³ See Memorandum, “Decision Memorandum for the Preliminary Results in the Antidumping Duty Administrative Review of Fine Denier Polyester Staple Fiber from India; 2018-2019,” dated concurrently with, and hereby adopted by, this notice (Preliminary Decision Memorandum).

On March 18, 2020, Commerce extended the deadline for issuing the preliminary results of this review from to April 1, 2020 to July 30, 2020.⁴ On April 24, 2020, and July 21, 2020, Commerce tolled all deadlines in administrative reviews by 50 days and 60 days, respectively, thereby extending the deadline for these preliminary results until November 17, 2020.⁵

⁴ See Memorandum, “Antidumping Duty Administrative Review of Fine Denier Polyester Staple Fiber from India: Extension of Deadline for Preliminary Results of Antidumping Duty Administrative Review,” dated March 18, 2020.

⁵ See Memorandum, “Tolling of Deadlines for Antidumping and Countervailing Duty Administrative Reviews in Response to Operational Adjustments Due to COVID-19,” dated April 24, 2020; see also Memorandum, “Tolling of Deadlines for Antidumping and Countervailing Duty Administrative Reviews,” dated July 21, 2020.

For a complete description of the events that followed the initiation of this review, see the Preliminary Decision Memorandum.

Scope of the Order

The product covered by this review is fine denier polyester staple fiber from India. For a complete description of the scope, see the Preliminary Decision Memorandum.

Methodology

Commerce is conducting this review in accordance with section 751(a)(1)(B) of the Tariff Act of 1930, as amended (the Act). Pursuant to sections 776(a) and (b) of the Act, Commerce has preliminarily assigned RIL an AD margin of 21.43 percent, as total AFA, because it withheld information requested for reconciliation purposes, did not provide accurate control numbers as requested by Commerce and in conformity with Commerce's instructions, and did not provide information requested regarding companies owned by family members. The total AFA rate of 21.43 percent is the AFA rate applied in the final determination of the investigation of fine denier PSF. For details regarding this determination, see the Preliminary Decision Memorandum. A list of the topics included in the Preliminary Decision Memorandum is included as an appendix to this notice. The Preliminary Decision Memorandum is a public document and is available via Enforcement and Compliance's Antidumping and Countervailing Duty Centralized Electronic Service System (ACCESS). ACCESS is available to registered users at http://access.trade.gov. In addition, a complete version of the Preliminary Decision Memorandum can be accessed directly at http://enforcement.trade.gov/frn/. The signed and electronic versions of the Preliminary Decision Memorandum are identical in content.

Preliminary Results of Review

Commerce preliminarily determines that the following estimated weighted-average dumping margin exists:

Exporter/producer | Estimated weighted- average dumping margin (percent) | Cash deposit rate adjusted for subsidy offset (percent)
Reliance Industries Limited | 21.43 | 14.48

Public Comment

Pursuant to 19 CFR 351.309(c)(1)(ii), interested parties may submit case briefs to the Assistant Secretary for Enforcement and Compliance no later than 30 days after the date of publication of this notice, unless the Secretary alters the time limit. Rebuttal briefs, limited to issues raised in the case briefs, may be filed no later than seven days after the time limit for filing case briefs.⁶ Parties who submit case briefs or rebuttal briefs in this proceeding are requested to submit with each brief: (1) A statement of the issue, (2) a brief summary of the argument, and (3) a table of authorities.⁷ Executive summaries should be limited to five pages total, including footnotes.⁸ Case and rebuttal briefs should be filed using ACCESS.⁹ Note that Commerce has temporarily modified certain of its requirements for serving documents containing business proprietary information.¹⁰

⁶ See 19 CFR 351.309(d)(1).

⁷ See 19 CFR 351.309(c)(2) and (d)(2).

⁸ Id.

⁹ See 19 CFR 351.303.

¹⁰ See Temporary Rule Modifying AD/CVD Service Requirements Due to COVID-19, 85 FR 41363 (July 10, 2020).

Pursuant to 19 CFR 351.310(c), any interested party who wants to request a hearing, must submit a written request for a hearing to the Assistant Secretary for Enforcement and Compliance, filed electronically via ACCESS, within 30 days after the date of publication of this notice in the Federal Register. Requests for a hearing should contain: (1) The party's name, address, and telephone number; (2) the number of hearing participants; and (3) a list of the issues to be discussed in the hearing. Issues raised in the hearing will be limited to those raised in the respective case and rebuttal briefs. If a hearing is requested, Commerce will notify interested parties of the hearing date and time.

We intend to issue the final results of this administrative review, including the results of our analysis of issues raised by the parties in the written comments, within 120 days of publication of these preliminary results in the Federal Register, unless otherwise extended.¹¹

¹¹ See section 751(a)(3)(A) of the Act; and 19 CFR 351.213(h)(1).

Assessment Rates

Upon issuance of the final results of review, Commerce will determine, and U.S. Customs and Border Protection (CBP) shall assess, antidumping duties on all appropriate entries covered by this review.¹² The final results of this administrative review shall be the basis for the assessment of antidumping duties on entries of merchandise under review and for future deposits of estimated duties, where applicable.¹³ We intend to issue liquidation instructions to CBP 15 days after publication of the final results of this review.

¹² See 19 CFR 351.212(b).

¹³ See section 751(a)(2)(C) of the Act.

Cash Deposit Requirements

The following cash deposit requirements will be effective for all shipments of fine denier PSF from India entered, or withdrawn from warehouse, for consumption on or after the date of publication of this notice of the final results of this administrative review, as provided for by section 751(a)(2)(C) of the Act: (1) The cash deposit rate for RIL will be equal to the weighted-average dumping margin established in the final results of this review (except, if the weighted-average dumping margin is zero or de minimis within the meaning of 19 CFR 351.106(c)(1), no cash deposit will be required); (2) for merchandise exported by manufacturers or exporters not covered in this review but covered in a prior segment of the proceeding, the cash deposit rate will continue to be the company-specific rate published for the most recently completed segment of this proceeding in which the manufacturer or exporter participated; (3) if the exporter is not a firm covered in this review, a prior review, or the less-than-fair-value investigation, but the manufacturer is, the cash deposit rate will be the rate established in the most recently completed segment of the proceeding for the manufacturer of the merchandise; and (4) the cash deposit rate for all other manufacturers or exporters will continue to be 14.67 percent ad valorem, the all-others rate established in the less-than-fair-value investigation, adjusted for subsidy offsets.¹⁴ These cash deposit requirements, when imposed, shall remain in effect until further notice.

¹⁴ See Fine Denier Polyester Staple Fiber from India: Final Affirmative Antidumping Determination of Sales at Less Than Fair Value, 83 FR 24737 (May 30, 2018).

Notification to Importers

This notice serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

These preliminary results of administrative review are issued and published in accordance with sections 751(a)(1) and 777(i)(1) of the Act, and 19 CFR 351.221(b)(4).

Dated: November 17, 2020.
Jeffrey I. Kessler,
Assistant Secretary for Enforcement and Compliance.

Appendix

List of Topics Discussed in the Preliminary Decision Memorandum

I. Summary

II. Background

III. Scope of the Order

IV. Application of Facts Available and Use of Adverse Inferences

V. Recommendation

[FR Doc. 2020-25856 Filed 11-20-20; 8:45 am]

BILLING CODE 3510-DS-P